DEPARTMENT OF THE INTERIOR

Minerals Management Service

Minerals Management Service Request for Public Nominations to the Royalty Policy Committee

AGENCY: Minerals Management Service (MMS), Interior.

ACTION: Request for nominations.

SUMMARY: The Director of the Minerals Management Service (MMS) is requesting nominations for three public representatives to serve on the Department's Royalty Policy Committee (RPC). These nominations may originate from state and local governments, universities, organizations, or individuals; they may include self-nominations.

DATES: Submit nominations on or before July 28, 2006.

ADDRESSES: Submit nominations to Gina Dan, Coordinator, Royalty Policy Committee, Minerals Revenue Management, Minerals Management Service, P.O. Box 25165, MS 300B2, Denver, CO 80225-0165.

FOR FURTHER INFORMATION CONTACT: Gina Dan, Office of the Deputy Associate Director, Minerals Revenue Management, Minerals Management Service,P.O. Box 25165, MS 300B2, Denver, CO 80225-0165, telephone number (303) 231-3392, fax number (303) 231-3194, e-mail gina.dan@mms.gov.

SUPPLEMENTARY INFORMATION: Nominees should have the expertise in minerals revenue management issues necessary to represent the public interest. The nomination package must include an updated copy of the nominee's resume or biography, including their mailing and e-mail addresses. The MMS is committed to the Department's diversity policy, and nominators are requested to consider diversity when making nominations. Members serve without compensation but will be reimbursed for travel expenses incurred when attending official RPC meetings. Reimbursements will be calculated in the same manner as persons employed intermittently in Government service under Section 5703 of Title 5 of the United States Code (U.S.C.).

The RPC provides advice related to the performance of discretionary functions under the laws governing the Department's management of Federal and Indian mineral leases and revenues. The RPC reviews and comments on minerals revenue management and other mineral-related policies and provides a forum to convey views representative of mineral lessees, operators, revenue payors, revenue recipients, governmental agencies, and the interested public. The location and dates of future RPC meetings and other information will be published in the Federal Register and posted on our Internet Web site at http://www.mms.gov/mmab/RoyaltyPolicyCommittee/rpc_homepage.htm. Meetings are open to the public without advanced registration, on a space-available basis. The public may make statements during the meetings, to the extent time permits, and file written statements with the RPC for its consideration. Copies of these written statements should be submitted to Ms. Dan. The RPC meetings are conducted under the authority of the Federal Advisory Committee Act (Pub. L. 92-463, 5 U.S.C., Appendix 1) and the Office of Management and Budget (Circular No. A-63, revised).

All correspondence, records, or information received in response to this notice are subject to disclosure under the Freedom of Information Act (FOIA). All information provided will be made public unless the respondent identifies which portions are proprietary. Please highlight the proprietary portions or mark the page(s) that contain proprietary data. Proprietary information is protected by the Federal Oil and Gas Royalty Management Act of 1982 (30 U.S.C. 1733), FOIA (5 U.S.C. 552(b)(4)), the Indian Minerals Development Act of 1982 (25 U.S.C. 2103) and Department regulations (43 CFR part 2).

Dated: June 15, 2006.
Shirley M. Conway,
Acting Associate Director for Minerals Revenue Management.

[FR Doc. E6-10767 Filed 7-10-06; 8:45 am]

BILLING CODE 4310-MR-P